DEPARTMENT OF DEFENSE

Office of the Secretary

Meeting of a Federal Advisory Committee

AGENCY: Department of Defense.

ACTION: Notice.

SUMMARY: Under the provisions of the Federal Advisory Committee Act of 1972 (5 U.S.C., Appendix, as amended), the Government in the Sunshine Act of 1976 (5 U.S.C. 552b, as amended), and 41 CFR 102-3.150, the Department of Defense announces that the following federal advisory committee meeting of the DoD Medicare-Eligible Retiree Health Care Board of Actuaries will take place:

DATES: Friday, July 29, 2011, from 1 p.m.-5 p.m.

ADDRESSES: 4040 N. Fairfax Drive, Suite 250, Arlington, VA 22203.

FOR FURTHER INFORMATION CONTACT: Margot Kaplan at the DoD Office of the Actuary, 4040 N. Fairfax Drive, Suite 308, Arlington, VA 22203.

SUPPLEMENTARY INFORMATION: Purpose of the Meeting: The purpose of the meeting is to execute the provisions of Chapter 56, Title 10, United States Code (10 U.S.C. 1114 et seq.). The Board shall review DoD actuarial methods and assumptions to be used in the valuation of benefits under DoD retiree health care programs for Medicare-eligible beneficiaries.

Agenda:

Meeting Objective

Board Approval of Proposed Methods and Assumptions for September 30, 2010 Valuation, For Calculating:

FY 2013 Per Capita Full-Time and Part-Time Normal Cost Amounts

September 30, 2010 Unfunded Liability (UFL)

October 2011 (FY 2012) Treasury UFL Amortization Payment

Briefing on Investment Experience

Medicare-Eligible Retiree Health Care Fund Update

September 30, 2009 Valuation Results

September 30, 2010 Valuation

Presentation

Board Decisions

Public's Accessibility to the Meeting: Pursuant to 5 U.S.C. 552b and 41 CFR 102-3.140 through 102-3.165 and the availability of space, this meeting is open to the public. Seating is on a first-come basis.

Committee's Designated Federal Officer or Point of Contact: Persons desiring to attend the DoD Medicare-Eligible Retiree Health Care Board of Actuaries meeting or make an oral presentation or submit a written statement for consideration at the meeting, must notify Margot Kaplan at 703-696-7404 by June 24, 2011.

Dated: February 8, 2011.
Morgan F. Park,
Alternate OSD Federal Register Liaison Officer, Department of Defense.

[FR Doc. 2011-3205 Filed 2-11-11; 8:45 am]

BILLING CODE 5001-06-P